DEPARTMENT OF COMMERCE

National Oceanic and Atmospheric Administration

Membership of the National Oceanic and Atmospheric Administration Performance Review Board

AGENCY: National Oceanic and Atmospheric Administration (NOAA), Department of Commerce.

ACTION: Notice of membership of NOAA Performance Review Board.

SUMMARY: In accordance with 5 U.S.C. 4314(c)(4), NOAA announces the appointment of twenty-three members to serve on the NOAA Performance Review Board (PRB). The NOAA PRB is responsible for reviewing performance appraisals and ratings of Senior Executive Service (SES) members and making written recommendations to the appointing authority on SES retention and compensation matters, including performance-based pay adjustments, awarding of bonuses and reviewing recommendations for potential Presidential Rank Award nominees, and SES recertification. The appointment of members to the NOAA PRB will be for a period of 24 months.

EFFECTIVE DATE: The effective date of service of the twenty-three appointees to the NOAA Performance Review Board is September 25, 2003.

FOR FURTHER INFORMATION CONTACT: Colette Magwood, Acting Executive Resources Program Manager, Human Resources Management Office, Office of Finance and Administration, NOAA, 1305 East-West Highway, Silver Spring, Maryland 20910, (301) 713-0530 (ext. 204).

SUPPLEMENTARY INFORMATION: The names and position titles of the members of the NOAA PRB are set forth below (all are NOAA officials, except Tyra Smith, Director, Human Resources, Bureau of the Census, Department of Commerce; Gerald R. Lucas, Director for Strategic Resources Initiatives, Office of Human Resources Management, Department of Commerce; and, Timothy J. Hauser, Deputy Under Secretary for International Trade, International Trade Administration, Department of Commerce):

Helen M. Hurcombe, Director, Acquisition & Grants Office, NOAA Finance and Administration.

Louisa Koch, Acting Assistant Administrator and Deputy Assistant Administrator, Office of Oceanic and Atmospheric Research.

Jamison Hawkins, Deputy Assistant Administrator for Ocean and Coastal Zone Management, National Ocean Service.

Lee Dantzler, Director, National Oceanographic Data Center, National Environmental Satellite, Data and Information Service.

John E. Oliver, Jr., Deputy Assistant Administrator, National Marine Fisheries Service.

John E. Jones, Jr., Acting Assistant Administrator and Deputy Assistant Administrator for Weather Services.

William J. Brennan, Deputy Assistant Secretary for International Affairs.

Tyra Smith, Director, Human Resources, Bureau of the Census.

David Kennedy, Director, Office of Response and Restoration, National Ocean Service.

Alan Neushatz, Associate Assistant Administration for Management and Chief Financial Officer/Chief Administrative Officer, National Ocean Service.

Ron Baird, Director, National Sea Grant College Program, Office of Oceanic and Atmospheric Research.

Ants Leetma, Director, Geophysical Fluid Dynamics Laboratory, Office of Oceanic and Atmospheric Research.

Gregory Mandt, Director, Office of Climate, Water and Weather Services, National Weather Service.

Louis W. Uccellini, Director, National Centers for Environmental Prediction, National Weather Service.

Rebecca Lent, Deputy Assistant Administrator, National Marine Fisheries Service.

Michael Sissenwine, Senior Scientist and Director of Research Programs, National Marine Fisheries Service.

William Broglie, Chief Administrative Officer, NOAA Finance and Administration.

Martha Cuppy, Director, Central Administrative Services Center, NOAA Finance and Administration.

Colleen Hartman, Deputy Assistant Administrator, National Environmental Satellite, Data and Information Service.

Kathleen Kelly, Director, Office of Satellite Operations, National Environmental Satellite, Data and Information Service.

Jordan P. St. John, Director, Office of Public and Constituent Affairs, Office of Public and Constituent Affairs, NOAA.

Gerald R. Lucas, Director for Strategic Resources Initiatives, Office of Human Resources Management, Department of Commerce.

Timothy J. Hauser, Deputy Under Secretary for International Trade, International Trade Administration, Department of Commerce.

Dated: September 16, 2003.
John J. Kelly, Jr.,
Deputy Undersecretary of Commerce for Oceans and Atmosphere.

[FR Doc. 03-24271 Filed 9-24-03; 8:45 am]

BILLING CODE 3510-12-M